DEPARTMENT OF AGRICULTURE

Forest Service

Information Collection: Arapaho-Roosevelt National Forest Visitor Surveys for Recreation Transportation System Alternatives Study

AGENCY: Forest Service, USDA.

ACTION: Notice; request for comment.

SUMMARY: In accordance with the Paperwork Reduction Act of 1995, the Forest Service is seeking comments from all interested individuals and organizations on the new information collection, Arapaho-Roosevelt National Forest Visitor Surveys for Transportation System Alternatives Study.

DATES: Comments must be received in writing on or before February 11, 2013 to be assured of consideration. Comments received after that date will be considered to the extent practicable.

ADDRESSES: Comments concerning this notice should be addressed to Carol Kruse, 2150 Centre Ave-Building E, Fort Collins, CO 80526.

Comments also may be submitted via facsimile to (970) 295-6696, ATTN: Carol Kruse, or by email to: ckruse@fs.fed.us.

The public may inspect comments received at the Arapaho-Roosevelt Supervisor's Office, 2150 Centre Ave-Bldg E, Fort Collins, CO 80526 during normal business hours. Visitors are encouraged to call ahead to 970-295-6663 to facilitate entry to the building.

FOR FURTHER INFORMATION CONTACT: Carol Kruse, Special Projects Coordinator, Arapaho-Roosevelt National Forest, 970-295-6663.

Individuals who use telecommunication devices for the deaf (TDD) may call the Federal Relay Service (FRS) at 1-800-877-8339, 24 hours a day, 7 days a week, including holidays.

SUPPLEMENTARY INFORMATION: Title: Arapaho-Roosevelt National Forest Visitor Surveys for Recreation Transportation System Alternatives Study.

OMB Number: 0596-NEW.

Expiration Date of Approval: Not applicable.

Type of Request: New.

Abstract: With over 5.4 million recreation visits annually, the Arapaho-Roosevelt is one of the most visited national forests in the nation. Encompassing both sides of the Continental Divide and the urban Front Range, from the Denver area to the Wyoming border, the Arapaho-Roosevelt urban forest provides outdoor recreation opportunities, services, and facilities to the residents of Colorado and visitors throughout the nation and around the world.

The population of the Front Range metropolitan area served by the Arapaho-Roosevelt National Forest is approximately 3.3 million and is predicted to double in the next 25 years. The demand for access to recreational facilities within the forest is expected to increase at nearly the same rate. Three Front Range recreation sites, Brainard Lake Recreation Area (including the Indian Peaks Wilderness), Mount Evans Recreation Area, and the Guanella Pass area are already experiencing resource damage and a reduction in the quality of visitor experience due to heavy use. As access demands increase, resource conditions and the quality of visitor experience are anticipated to decline even further.

The Forest Service is evaluating the potential for the addition of alternative transportation to existing recreation transportation systems accessing these sites. The purpose of this evaluation is to determine if this addition will help the Agency better manage its recreation opportunities and resources, thereby improving its delivery of services to an ever-increasing public. The Forest Service received a grant from the Paul S. Sarbanes Transit in Parks Program in 2010 to conduct research at the three aforementioned recreation sites. This program will help the Agency make the determination as to what mode(s) of alternative transportation would improve service delivery, resource management, and visitor experience quality. At the present time, data pertaining to traffic, parking, and resource conditions are being collected. In the summer of 2013, the Forest Service will collect feedback from visitors to assess their opinions about potential changes in the transportation system and the impact it would have on their recreation experience.

Under the following authorities, the Forest Service is obligated to actively solicit public input to improve National Forest System lands management to better serve the public:

1. Forest Service Administration Organic Act of 1897 [16 U.S.C. 473-478, 479-482, and 551] as amended,

2. Transfer Act of 1905 [16 U.S.C. 472, 524, 554], the Multiple Use Sustained Yield Act of 1960 [16 U.S.C. 528],

3. Forest and Rangeland Renewable Resources and Planning Act of 1974 [16 U.S.C. Chapter 36] as amended,

4. National Forest Management Act of 1976 [16 U.S.C. 1600] as amended,

5. Government Performance and Results Act of 1993 [Pub. L. 103-62] as amended,

6. Executive Order 12862 of September 11, 1993,

7. 1997 Revision of the Land and Resource Management Plan for the Arapaho and Roosevelt National Forests and Pawnee National Grassland,

8. and Executive Order 13571 of April 27, 2011.

In addition to the three aforementioned sites, this information collection will be administered at the gateway to the Indian Peaks Wilderness. The respondents for this data collection survey will be recreational visitors, ages 18 years and older, at the four previously mentioned sites during the summer of 2013 data collection period. During that summer, interviewers will query visitors at the end of their experience to find out if they are willing to participate in the survey. If they do participate, the interviewer will keep a record of the respondent's answers. Each visitor will complete only one survey per visit, and participation is strictly voluntary. The information will be collected by a private contractor, on behalf of the Forest Service, who has working relationship with Colorado State and Utah State Universities.

These surveys will be designed to collect data on the following:

1. Visitor experience (including perceptions of crowding, etc.),

2. Visitor travel (including trip information such as origination point, source of pre-visit information, etc.),

3. Mode choice (including potential transportation system scenarios),

4. Group characteristics (including number of people in the group, age groups, etc.), and

5. Socio-demographic data.

The primary analysis of the data will be conducted by the private contractor and their university associates on behalf of the Forest Service, Federal Highway Administration—Central Federal Lands, and the Volpe National Transportation Systems Center. All results will be compiled in such a way to prevent responses from being correlated to respondents.

The data analysis will help area managers better serve the public by translating visitor input into future strategic plans for these sites. This includes efforts focused on developing more effective and efficient delivery of program services at all four sites through more productive resource allocation. As a result, Forest Service recreational and transportation program management goals and objectives may be modified which could require Forest Service plan revisions.

The data analysis of the collected information will be included in a management report prepared for the Forest Service and shared with stakeholders and other interested parties. The results may also be published in scientific journals and/or included in presentations at professional meetings and conferences. The Agency may get requests for this information from the public and other interested organizations which could include, Congressional staffs, newspapers, magazines, transportation organization, and/recreational organizations.

As noted previously, intensive visitor use at these four sites are threatening the resource and recreation management objectives for these areas, as specified in the Forest Land and Resource Management Plan and various other site management plans. Previous planning studies have recommended alternative transportation strategies to help minimize the impact of intensive visitor use on Agency resources and visitor experience quality. The feasibility and public opinion as it relates to these recommendations have not yet been analyzed. Consequently, the Forest Service has not been able to implement transportation improvements that could help meet resource and recreation management objectives for these areas. Without this analysis, the Agency will continue to lack the information necessary to identify and implement feasible and publicly-accepted transportation improvements to help protect forest resources and enhance visitor experiences as required by the Forest Land and Resource Management Plan. Finally, these information collections will directly impact Agency resources and visitor experience quality and help the Forest Service to meet its resource and recreation management mandates.

It is estimated that 1,275 people will be contacted at Guanella Pass (425 people for each of 3 surveys); 1,275 people will be contacted at Mount Evans (425 people for each of 3 surveys); and 1,700 will be contacted at Brainard Lake Recreation Area (425 people for each of 4 surveys). Those 4,250 contacts will each require 1 minute of public burden. Of the 425 contacted for each survey at each site, it is estimated that 300 people will be willing to respond to each survey at each site, or 3,000 contacts (300 x 10 surveys total), requiring an additional 10 minutes each for those 3,000 visitors to respond to survey questions.

Estimate of Annual Burden: 11 minutes.

Type of Respondents: The respondent population for this data collection survey will be recreational visitors, ages 18 years and older, at these sites during the data collection period.

Estimated Annual Number of Respondents: 4,250.

Estimated Annual Number of Responses per Respondent: 1.

Estimated Total Annual Burden on Respondents: 570 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 4, 2012.
James M. Pẽna,
Associate Deputy Chief, National Forest System.

[FR Doc. 2012-29927 Filed 12-11-12; 8:45 am]

BILLING CODE 3410-11-P